DEPARTMENT OF HOMELAND SECURITY

Coast Guard

[Docket No. USCG-2018-0042]

Chemical Transportation Advisory Committee

AGENCY: Coast Guard, Department of Homeland Security.

ACTION: Notice of Federal Advisory Committee meeting.

SUMMARY: The Chemical Transportation Advisory Committee and its subcommittees will meet in Houston, TX, to discuss committee matters relating to the safe and secure marine transportation of hazardous materials. These meetings will be open to the public.

DATES: The Chemical Transportation Advisory Committee subcommittees will meet on Tuesday, March 6, 2018, from 9 a.m. to 5 p.m.; and on Wednesday, March 7, 2018, from 9 a.m. to 5 p.m. The full Committee will meet on Thursday, March 8, 2017, from 9 a.m. to 5 p.m. Please note that the meetings may close early if the committee has completed its business.

ADDRESSES: The meeting will be held at United States Coast Guard Sector Houston-Galveston, 13411 Hilliard St., Houston, TX 77034, https://homeport.uscg.mil/port-directory/houston-galveston

Pre-registration Information: Pre-registration is required for access to Sector Houston-Galveston. Foreign nationals participating will be required to pre-register no later than noon on February 2, 2018, to be admitted to the meeting. U.S. citizens participating will be required to pre-register no later than noon on February 20, 2018, to be admitted to the meeting. To pre-register, contact Lieutenant Commander Julie Blanchfield at julie.e.blanchfield@uscg.mil or (202) 372-1419. You will be asked to provide your name, telephone number, email, and company or group with which you are affiliated. If a foreign national, you must provide your country of citizenship, passport country, country of residence, place of birth, passport number, and passport expiration date. All attendees will be required to provide a REAL-ID Act compliant government-issued picture identification card in order to gain admittance to the base. For information on REAL ID and to check the compliance status of your state/territory, please see https://www.dhs.gov/real-id and https://www.dhs.gov/real-id-public-faqs.

For information on facilities or services for individuals with disabilities or to request special assistance at the meeting, contact the Alternate Designated Federal Officer as soon as possible using the contact information provided in the FOR FURTHER INFORMATION CONTACT section of this notice.

Instructions: You are free to submit comments at any time, including orally at the meetings, but if you want committee members to review your comment before the meeting, please submit your comments no later than February 28, 2018. We are particularly interested in comments on the issues in the “Agenda” section below. You must include “Department of Homeland Security” and docket number USCG-2018-0042. Written comments must be submitted using the Federal eRulemaking Portal at http://www.regulations.gov. If you encounter technical difficulties with comment submission, contact the individual in the FOR FURTHER INFORMATION CONTACT section of this document. Comments received will be posted without alteration at https://www.regulations.gov, including any personal information provided. You may review the Privacy Act and Security Notice for the Federal Docket Management System at https://regulations.gov/privacyNotice.

Docket Search: For access to the docket to read documents or comments related to this notice, go to https://www.regulations.gov, type “USCG-2018-0042” in the “Search” box, press Enter, and then click on the item you wish to view.

FOR FURTHER INFORMATION CONTACT: Lieutenant Commander Julie Blanchfield, Alternate Designated Federal Officer of the Chemical Transportation Advisory Committee, 2703 Martin Luther King Jr. Ave. SE, Stop 7509, Washington, DC 20593-7509, Telephone 202-372-1419, Fax 202-372-8380, or julie.e.blanchfield@uscg.mil.

SUPPLEMENTARY INFORMATION: The Chemical Transportation Advisory Committee is established under the authority of Section 871 of the Homeland Security Act of 2002, Title 6, United States Code, section 451. This Committee is established in accordance with and operates under the provisions of the Federal Advisory Committee Act (Title 5, United States Code, Appendix).

The Chemical Transportation Advisory Committee will advise, consult with, and make recommendations reflecting its independent judgment to the Commandant of the United States Coast Guard on matters concerning the safe and secure marine transportation of hazardous materials, including industry outreach approaches. The Chemical Transportation Advisory Committee will respond to specific assignments and may conduct studies, inquiries, workshops, and seminars as the Commandant may authorize or direct.

Agendas of Meetings

Subcommittee Meetings on March 6 and 7, 2018

The subcommittee meetings will separately address the following tasks:

(1) Task Statement 13-03: Safety Standards for the Design of Vessels Carrying Natural Gas or Using Natural Gas as Fuel.

(2) Task Statement 15-01: Marine Vapor Control System Certifying Entities Guidelines update and Vapor Control System supplementary guidance for the implementation of the final rule.

(3) Task Statement 17-01: Hazardous Substance Response Plans for Tank Vessels and Facilities.

(4) Task Statement 16-01: Hazardous Cargo Transportation Security Subcommittee.

(5) Task Statement 17-02: Input to Support Regulatory Reform of Coast Guard Regulations—Executive Orders 13771 and 13783.

The task statements from the last committee meeting are located at Homeport at the following address: https://homeport.uscg.mil/missions/ports-and-waterways/safety-advisory-committees/ctac/subcommittees-and-working-groups.

The agenda for each subcommittee meeting will include the following:

1. Review subcommittee task statements.

2. Work on tasks assigned in task statements mentioned above.

3. Public comment period.

4. Discuss and prepare any proposed recommendations for the Chemical Transportation Advisory Committee meeting on March 8, 2018, on tasks assigned in detailed task statements mentioned above.

Full Committee Meeting on March 8, 2018

The agenda for the Chemical Transportation Committee meeting on Thursday, March 8, 2018, is as follows:

1. Introductions and opening remarks.

2. Swear in newly appointed committee members, and thank outgoing members.

3. Review of October 5, 2017, meeting minutes and status of task items.

4. Coast Guard Leadership Remarks.

5. Chairman's and Designated Federal Officer's remarks.

6. Committee will review, discuss, and formulate recommendations on the following items:

a. Task Statement 13-03: Safety Standards for the Design of Vessels Carrying Natural Gas or Using Natural Gas as Fuel.

b. Task Statement 15-01: Marine Vapor Control System subcommittee.

c. Task Statement 16-01: Hazardous Cargo Transportation Security subcommittee.

d. Task Statement 17-01: Hazardous Substance Response Plans for Tank Vessels and Facilities.

e. Task Statement 17-02: Input to Support Regulatory Reform of Coast Guard Regulations—Executive Orders 13771 and 13783.

7. United States Coast Guard update on International Maritime Organization activities as they relate to the marine transportation of hazardous materials.

8. Presentation of interest related to safe and secure shipment of hazardous materials.

9. New business and subcommittee recommendation discussion.

10. Set next meeting date and location.

11. Set subcommittee meeting schedule.

12. Public comment period.

13. Adjournment of meeting.

A copy of all meeting documentation will be available at https://homeport.uscg.mil/missions/ports-and-waterways/safety-advisory-committees/ctac/full-committee-meetings no later than March 2, 2018. Alternatively, you may contact Lieutenant Commander Julie Blanchfield as noted in the FOR FURTHER INFORMATION CONTACT section above.

A public comment period will be held during each subcommittee and the full committee meeting concerning matters being discussed. Public comments will be limited to 3 minutes per speaker. Please note that the public comment period may end before the time indicated, following the last call for comments. Please contact the individual listed in the FOR FURTHER INFORMATION CONTACT section, to register as a speaker. Please note the meeting may adjourn early if the work is completed.

Dated: February 5, 2018.
Jeffrey G. Lantz,
Director of Commercial Regulations and Standards.

[FR Doc. 2018-02510 Filed 2-7-18; 8:45 am]

BILLING CODE 9110-04-P